DEPARTMENT OF HOMELAND SECURITY

Office of the Secretary

[Docket No. DHS-2006-0054]

Notice of Meeting of National Infrastructure Advisory Council (NIAC)

AGENCY: Directorate for Preparedness, DHS.

ACTION: Notice of meeting.

SUMMARY: The National Infrastructure Advisory Council (NIAC) will meet in open session.

DATES: Tuesday, October 10, 2006, from 1:30 p.m. to 4:30 p.m.

ADDRESSES: National Press Club, 529 14th Street, NW., Washington, DC 20045. You may submit comments, identified by DHS-2006-0054, by one of the following methods:

• Federal eRulemaking Portal: http://www.regulations.gov. Follow the instructions for submitting comments.

• E-mail: william.corcoran@associates.dhs.gov. When submitting comments electronically, please include by DHS-2006-0054, in the subject line of the message.

• Mail: Jenny Menna, Department of Homeland Security, Directorate for Preparedness, Washington, DC 20528. To ensure proper handling, please reference by DHS-2006-0054, on your correspondence. This mailing address may be used for paper, disk or CD-ROM submissions.

• Hand Delivery/Courier: Jenny Menna, Department of Homeland Security, Directorate for Preparedness, Washington, DC 20528. Contact Telephone Number 703-235-5316.

Instructions: All submissions received must include the words “Department of Homeland Security” and DHS-2006-0054, the docket number for this action. Comments received will be posted without alteration at http://www.regulations.gov, including any personal information provided.

Docket: For access to the docket to read background documents or comments received, go to http://www.regulations.gov.

FOR FURTHER INFORMATION CONTACT: Jenny Menna, NIAC Designated Federal Officer, Department of Homeland Security, Washington, DC 20528; telephone 703-235-5316.

SUPPLEMENTARY INFORMATION: Notice of this meeting is given under the Federal Advisory Committee Act (FACA), Public Law 92-463, as amended (5 U.S.C. App.1 et seq.). At this meeting, the NIAC will be briefed on the status of several Working Group activities in which the Council is currently engaged.

This meeting is open to the public on a first-come, first-served basis. Please note that the meeting may close early if all business is finished.

A tentative agenda for the meeting is set forth below, but may be updated. Please consult the NIAC Web site, http://www.dhs.gov/niac, for the most current agenda.

Information on Services for Individuals with Disabilities: For information on facilities or services for individuals with disabilities, or to request special assistance at the meeting, telephone the Designated Federal Officer as soon as possible.

Dated: September 18, 2006.
Jenny Menna,
Designated Federal Officer for the NIAC.

Draft Agenda of October 10, 2006 Meeting

I. Opening of Meeting: Jenny Menna, Designated Federal Officer, NIAC, Department of Homeland Security.

II. Roll Call of Members: Jenny Menna.

III. Opening Remarks and Introductions: NIAC Chairman, Erle A. Nye, Chairman Emeritus, TXU Corp, NIAC Vice Chairman, John T. Chambers, President and CEO, Cisco Systems, Inc, Michael Chertoff, Secretary, Department of Homeland Security (DHS) (Invited), Frances Fragos Townsend, Assistant to the President for Homeland Security and Counterterrorism (Invited).

IV. Approval of July Minutes: NIAC Chairman, Erle A. Nye.

V. Final Reports and Deliberations: NIAC Chairman, Erle A. Nye Presiding.

A. The Prioritization of Critical Infrastructures for a Pandemic Outbreak in the United States: Chief Rebecca F. Denlinger, Fire Chief, Cobb County, Georgia Fire and Emergency Services, NIAC Member, Martha H. Marsh, Chairman and CEO, Stanford Hospital and Clinics, NIAC Member and Bruce Rohde, Chairman and CEO Emeritus, ConAgra Foods, Inc.

B. Deliberation and Approval of Recommendations of Final Report: NIAC Members.

VI. Status Report on Current Working Group Initiatives: NIAC Chairman, Erle A. Nye Presiding.

A. Convergence of Physical and Cyber Technologies and Related Security Management Challenges: George Conrades, Executive Chairman, Akamai Technologies, NIAC Member, Margaret Grayson, President, AEP Government Solutions Group, NIAC Member, and Gregory A. Peters, Former President and CEO, Internap Network Services Corporation, NIAC Member.

VII. New Business: NIAC Chairman, Erle A. Nye, NIAC Members TBD.

A. Discussion of Potential New Working Group Topics: NIAC Members.

B. Recommendations Follow-up: Nancy Wong, Designated Federal Officer, DHS.

VIII. Adjournment: NIAC Chairman, Erle A. Nye.

[FR Doc. E6-15864 Filed 9-26-06; 8:45 am]

BILLING CODE 4410-10-P